DEPARTMENT OF COMMERCE

International Trade Administration

[C-583-880]

Certain Monomers and Oligomers From Taiwan: Postponement of Preliminary Determination in the Countervailing Duty Investigation

AGENCY: Enforcement and Compliance, International Trade Administration, Department of Commerce.

DATES: Applicable June 4, 2025.

FOR FURTHER INFORMATION CONTACT: Suresh Maniam at (202) 482-1603 or Theodore Pearson at (202) 482-2631, AD/CVD Operations, Office I, Enforcement and Compliance, International Trade Administration, U.S. Department of Commerce, 1401 Constitution Avenue NW, Washington, DC 20230.

SUPPLEMENTARY INFORMATION:

Background

On April 16, 2025, the U.S. Department of Commerce (Commerce) initiated a countervailing duty (CVD) investigation of imports of certain monomers and oligomers from Taiwan.¹ Currently, the preliminary determination is due no later than June 20, 2025.

¹ See Certain Monomers and Oligomers from Taiwan: Initiation of Countervailing Duty Investigation, 90 FR 17032 (April 23, 2025).

Postponement of Preliminary Determination

Section 703(b)(1) of the Tariff Act of 1930, as amended (the Act), requires Commerce to issue the preliminary determination in a CVD investigation within 65 days after the date on which Commerce initiated the investigation. However, section 703(c)(1) of the Act permits Commerce to postpone the preliminary determination until no later than 130 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On May 23, 2025, the petitioner ² submitted a timely request that Commerce postpone the preliminary determination.³ The petitioner stated that it requests postponement so that Commerce can fully analyze the forthcoming questionnaire responses and issue supplemental questionnaires prior to making its preliminary CVD determination.⁴

² The petitioner is Arkema, Inc.

³ See Petitioner's Letter, “Request to Extend Preliminary Determination,” dated May 23, 2025.

⁴ Id.

In accordance with 19 CFR 351.205(e), the petitioner has stated the reasons for requesting a postponement of the preliminary determination, and Commerce finds no compelling reason to deny the request. Therefore, in accordance with section 703(c)(1)(A) of the Act, Commerce is postponing the deadline for the preliminary determination to no later than 130 days after the date on which this investigation was initiated, i.e., August 25, 2025.⁵

⁵ Postponing the preliminary determination to 130 days after initiation would place the deadline on Sunday, August 24, 2025. When a deadline falls on a weekend or federal holiday, Commerce's practice is to move the deadline to the next business day. See Notice of Clarification: Application of “Next Business Day” Rule for Administrative Determination Deadlines Pursuant to the Tariff Act of 1930, As Amended, 70 FR 24533 (May 10, 2005).

Pursuant to section 705(a)(1) of the Act and 19 CFR 351.210(b)(1), the deadline for the final determination of this investigation will continue to be 75 days after the date of the preliminary determination.

This notice is issued and published pursuant to section 703(c)(2) of the Act and 19 CFR 351.205(f)(1).

Dated: May 29, 2025.
Christopher Abbott,
Deputy Assistant Secretary for Policy and Negotiations, performing the non-exclusive functions and duties of the Assistant Secretary for Enforcement and Compliance.

[FR Doc. 2025-10150 Filed 6-3-25; 8:45 am]

BILLING CODE 3510-DS-P